INTERNATIONAL TRADE COMMISSION

[USITC SE-12-016]

Sunshine Act Meeting

Agency Holding the Meeting: United States International Trade Commission.

DATES: Time and Date: June 20, 2012 at 9:15 a.m.

Place: Room 100, 500 E Street SW., Washington, DC 20436, Telephone: (202) 205-2000.

Status: Open to the public.

Matters To Be Considered:

1. Agendas for future meetings: None.

2. Minutes.

3. Ratification List.

4. Vote in Inv. Nos. 731-TA-865-867 (Second Review)(Stainless Steel Butt-Weld Fittings from Italy, Malaysia, and the Philippines). The Commission is currently scheduled to transmit its determinations and Commissioners' opinions to the Secretary of Commerce on or before June 29, 2012.

5. Outstanding action jackets: None.

In accordance with Commission policy, subject matter listed above, not disposed of at the scheduled meeting, may be carried over to the agenda of the following meeting.

By Order of the Commission:
Issued: June 7, 2012.
Lisa R. Barton,
Acting Secretary to the Commission.

[FR Doc. 2012-14491 Filed 6-11-12; 11:15 am]

BILLING CODE 7020-02-P